FEDERAL COMMUNICATIONS COMMISSION

47 CFR Part 73

[DA 00-542, MM Docket No. 00-40, RM-9824]

Radio Broadcasting Services; Cobleskill and Saint Johnsville, NY

AGENCY: Federal Communications Commission.

ACTION: Proposed rule.

SUMMARY: The Commission requests comments on a petition filed by Clear Channel Broadcasting Licenses, Inc., seeking the reallotment of Channel 278B from Cobleskill to Saint Johnsville, NY, as the community's first local aural service, and the modification of Station WQBJ(FM)'s license to specify Saint Johnsville as its community of license. Channel 278B can be allotted to Saint Johnsville in compliance with the Commission's minimum distance separation requirements with a site restriction of 15.9 kilometers (9.9 miles) east, at coordinates 42-58-21 NL; 74-29-30 WL, to accommodate petitioner's desired transmitter site which is the present site of Station WQBJ. Saint Johnsville is located within 320 kilometers (200 miles) of the U.S.-Canadian border. However, prior concurrence by the Canadian Government is not required since no change in Station WQBJ's transmitter site is proposed.

DATES: Comments must be filed on or before May 1, 2000, and reply comments on or before May 16, 2000.

ADDRESSES: Federal Communications Commission, 445 12th Street, S.W., Room TW-A325, Washington, DC 20554. In addition to filing comments with the FCC, interested parties should serve the petitioner, or its counsel or consultant, as follows: Marissa G. Repp, F. William LeBeau, Hogan & Hartson L.L.P., 555 13th Street, NW, Washington, D.C. 20004 (Counsel to petitioner).

FOR FURTHER INFORMATION CONTACT: Leslie K. Shapiro, Mass Media Bureau, (202) 418-2180.

SUPPLEMENTARY INFORMATION: This is a synopsis of the Commission's Notice of Proposed Rule Making, MM Docket No. 00-40, adopted March 1, 2000, and released March 10, 2000. The full text of this Commission decision is available for inspection and copying during normal business hours in the FCC Reference Center, 445 12th Street, SW, Washington, DC. The complete text of this decision may also be purchased from the Commission's copy contractor, International Transcription Services, Inc., (202) 857-3800, 1231 20th Street, NW, Washington, DC 20036.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

Federal Communications Commission.
John A. Karousos,
Chief, Allocations Branch, Policy and Rules Division, Mass Media Bureau.

[FR Doc. 00-7649 Filed 3-28-00; 8:45 am]

BILLING CODE 6712-01-U